DEPARTMENT OF COMMERCE

National Oceanic and Atmospheric Administration

50 CFR Part 679

RIN 0648-AY53

Fisheries of the Exclusive Economic Zone Off Alaska; Pacific Cod Allocations in the Gulf of Alaska; Amendment 83; Correction

AGENCY: National Marine Fisheries Service (NMFS), National Oceanic and Atmospheric Administration (NOAA), Commerce.

ACTION: Correction to final rule.

SUMMARY: This document contains one correction to the final rule pertaining to Fisheries of the Exclusive Economic Zone Off Alaska; Pacific Cod Allocations in the Gulf of Alaska published on December 1, 2011. This correction is intended to clarify a regulatory prohibition.

DATES: Effective January 1, 2012.

FOR FURTHER INFORMATION CONTACT: Seanbob Kelly, (907) 586-7228.

SUPPLEMENTARY INFORMATION:

Background

A final rule was published in the Federal Register on December 1, 2011 (76 FR 74670) that revises several sections of regulations that pertain to the management of Pacific cod in the Gulf of Alaska Management Area (GOA). The final rule allocates total allowable catch of Pacific cod to various gear and operational type sectors in the Western and Central GOA Pacific cod fisheries that are managed under the Fishery Management Plan for Groundfish of the Gulf of Alaska (FMP).

Need for Correction

The error is located in a prohibition at § 679.7 that limits access to the Pacific cod parallel fishery for federal fishery participants. This prohibition precludes federally permitted vessels that do not have a properly endorsed license limitation program license from participating in the Western or Central GOA Pacific cod parallel fishery. The error occurred in limiting the scope of the prohibition to vessels that “catch and process” only; thus the regulations omit vessels that solely directed fish for Pacific cod and do not process. As written, the regulation is inconsistent with the Council's recommendations under Amendment 83, the environmental analysis, regulatory impact review, final regulatory flexibility analysis, and the preambles to both the proposed and final rules.

The correction will amend § 679.7(b)(6) to replace the words “catch and process” with “directed fish for”. The correction will ensure that the prohibition applies to both catcher and catcher processor vessels, as intended by the Council's recommendations and the Secretarial action under Amendment 83.

The Assistant Administrator for Fisheries, NOAA (AA), finds good cause pursuant to 5 U.S.C. 553(b)(B) to waive prior notice and the opportunity for public comment because it would be unnecessary and contrary to the public interest. This error must be corrected immediately to clarify the regulatory prohibition's application. Left uncorrected, the prohibition purports to apply only to catcher processor vessels fishing for Pacific cod in the GOA, when the prohibition was clearly meant to apply to catcher vessels, too. The correction will ensure that NMFS can enforce the prohibition against both catcher and catcher processors, as intended. If the effective date for these corrections is delayed to solicit prior public comment, this technical error will not be corrected by the effective date of this final rule, thereby undermining the conservation and management objectives of the FMP. The AA further finds, pursuant to 5 U.S.C. 553(d)(3), good cause to waive the thirty (30) day delayed effectiveness period for the reasons stated above.

NMFS is correcting this error and is not making substantive changes to the document in rule FR Docket No. 100107012-1689-03 published on December 1, 2011 (76 FR 74670).

Correction

Accordingly, the final rule published on December 1, 2011 (76 FR 74670), to be effective January 1, 2012, is corrected as follows:

§ 679.7 [Corrected]

On page 74687, in § 679.7(b)(6), in the third column of the page, under the paragraph heading “Parallel fisheries.”, correct the reference to “catch and process” to read as “directed fish for”.

Dated: December 23, 2011.
Samuel D. Rauch III,
Deputy Assistant Administrator for Regulatory Programs, National Marine Fisheries Service.

[FR Doc. 2011-33452 Filed 12-28-11; 8:45 am]

BILLING CODE 3510-22-P